INTERNATIONAL TRADE COMMISSION

Investigation No. 731-TA-1022 (Second Review)

Refined Brown Aluminum Oxide From China

Determination

On the basis of the record ¹ developed in the subject five-year review, the United States International Trade Commission (“Commission”) determines, pursuant to section 751(c) of the Tariff Act of 1930 (19 U.S.C. 1675(c)), that revocation of the antidumping duty order on refined brown aluminum oxide from China would be likely to lead to continuation or recurrence of material injury to an industry in the United States within a reasonably foreseeable time.

¹ The record is defined in sec. 207.2(f) of the Commission's Rules of Practice and Procedure (19 CFR § 207.2(f)).

Background

The Commission instituted this review on February 3, 2014 (79 FR 6225) and determined on May 9, 2014 that it would conduct an expedited review (79 FR 48248, August 15, 2014).

The Commission completed and filed its determination in this review on October 1, 2014. The views of the Commission are contained in USITC Publication 4492 (October 2014), entitled Refined Brown Aluminum Oxide from China: Investigation No. 731-TA-1022 (Second Review).

By order of the Commission.
Issued: October 1, 2014.
Lisa R. Barton,
Secretary to the Commission.

[FR Doc. 2014-23801 Filed 10-3-14; 8:45 am]

BILLING CODE 7020-02-P